SECURITIES AND EXCHANGE COMMISSION

[File No. 500-1]

Li-ion Motors Corp. (a/k/a Terra Inventions Corp.), PetroHunter Energy Corp., and Shrink Nanotechnologies, Inc.; Order of Suspension of Trading

May 11, 2016.

It appears to the Securities and Exchange Commission that there is a lack of current and accurate information concerning the securities of Li-ion Motors Corp. (a/k/a Terra Inventions Corp.) (CIK No. 1141263), a dissolved Nevada corporation with its principal place of business listed as Las Vegas, Nevada with stock quoted on OTC Link (previously, “Pink Sheets”) operated by OTC Markets Group, Inc. (“OTC Link”) under the ticker symbol TERX, because it has not filed any periodic reports since the period ended July 31, 2013. On August 19, 2015, a delinquency letter was sent by the Division of Corporation Finance to Li-ion Motors Corp. (a/k/a Terra Inventions Corp.) requesting compliance with its periodic filing obligations, but Li-ion Motors Corp. (a/k/a Terra Inventions Corp.) did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of PetroHunter Energy Corp. (CIK No. 1298824), a Maryland corporation with its principal place of business listed as Denver, Colorado with stock quoted on OTC Link under the ticker symbol PHUN, because it has not filed any periodic reports since the period ended June 30, 2013. On December 1, 2013, a delinquency letter was sent by the Division of Corporation Finance to PetroHunter Energy Corp. requesting compliance with its periodic filing obligations, and PetroHunter Energy Corp. received the delinquency letter on December 10, 2013, but failed to cure its delinquencies.

It appears to the Securities and Exchange Commission that there is a lack of current and accurate information concerning the securities of Shrink Nanotechnologies, Inc. (CIK No. 1355242), a void Delaware corporation with its principal place of business listed as Las Vegas, Nevada with stock quoted on OTC Link under the ticker symbol INKN, because it has not filed any periodic reports since the period ended March 31, 2013. On August 19, 2015, a delinquency letter was sent by the Division of Corporation Finance to Shrink Nanotechnologies, Inc. requesting compliance with its periodic filing obligations, but Shrink Nanotechnologies, Inc. did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 11, 2016, through 11:59 p.m. EDT on May 24, 2016.

By the Commission.
Jill M. Peterson,
Assistant Secretary.

[FR Doc. 2016-11460 Filed 5-11-16; 4:15 pm]

BILLING CODE 8011-01-P